DEPARTMENT OF THE INTERIOR

Geological Survey

Technology Transfer Act of 1986

AGENCY: U.S. Geological Survey, Interior.

ACTION: Notice of proposed Cooperative Research & Development Agreement (CRADA) Negotiations.

SUMMARY: The United States Geological Survey (USGS) is contemplating entering into a Cooperative Research and Development Agreement (CRADA) with the Northwest Geophysical Associates to develop Northern Alaska Geophysical Models.

Inquiries: If any other parties are interested in similar activities with the USGS, please contact Richard W. Saltus, U.S. Geological Survey, Energy Resources Team, MS 939 Box 25046 Denver Federal Center, telephone (303) 236-1647.

SUPPLEMENTARY INFORMATION: This notice is submitted to meet the USGS requirements stipulated in Survey Manual Chapter 500.20.

P. Patrick Leahy,
Associated Director for Geology, U.S. Geological Survey.

[FR Doc. 01-23574 Filed 9-20-01; 8:45 am]

BILLING CODE 4310-Y7-M